DEPARTMENT OF COMMERCE

Foreign-Trade Zones Board

[S-2-2013]

Foreign-Trade Zone 196—Fort Worth, TX, Foreign-Trade Subzone 196A—TTI, Inc.; Application for Additional Subzone Site

An application has been submitted to the Foreign-Trade Zones Board (the Board) by Alliance Corridor, Inc., grantee of FTZ 196, requesting an additional site for Subzone 196A located in Fort Worth, Texas. The application was submitted pursuant to the provisions of the Foreign-Trade Zones Act, as amended (19 U.S.C. 81a-81u), and the regulations of the Board (15 CFR part 400). It was formally docketed on January 4, 2013.

Subzone 196A was approved on September 6, 2012 (S-102-2012) with a site located at 2601 Sylvania Cross Drive in Fort Worth (Site 1, 13 acres) subject to a three-year ASF sunset provision to September 30, 2015. An additional site located at 2441 Northeast Parkway in Fort Worth was approved on a temporary basis on December 13, 2012 (S-139-2012) (Temporary Site 2, 14.419 acres, expires 6/30/2013).

The applicant is now requesting authority to include Temporary Site 2 in Subzone 196A on a longer-term basis. The proposed subzone site would be subject to the existing activation limit of FTZ 196 and to the existing sunset provision applicable to Site 1 of the subzone. No authorization for production activity has been requested at this time.

In accordance with the Board's regulations, Camille Evans of the FTZ Staff is designated examiner to review the application and make recommendations to the Executive Secretary.

Public comment is invited from interested parties. Submissions shall be addressed to the Board's Executive Secretary at the address below. The closing period for their receipt is February 25, 2013. Rebuttal comments in response to material submitted during the foregoing period may be submitted during the subsequent 15-day period to March 11, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Camille Evans at Camille.Evans@trade.gov or (202) 482-2350.

Dated: January 4, 2013.
Andrew McGilvray,
Executive Secretary.

[FR Doc. 2013-00584 Filed 1-11-13; 8:45 am]

BILLING CODE P